FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants

The Visca Corp., 5540 West Century Blvd., Unit 5, Los Angeles, CA 90045. Officers: Ramon T. Villamor, President (Qualifying Individual), Susana Abarquez, Vice President.

Envios Catrachos Inc., 8275 NW. 66th Street, Miami, FL 33166. Officers: Miriam Soledad Fernandez, President (Qualifying Individual), George S. Fernandez, Vice President.

Nidsan Inc., 37 West 39 Street, Suite 1003, New York, NY 10018. Officers: Mohammed Azam, Vice President (Qualifying Individual), Liaquat Begum, President.

Sync Logistics Inc., 3031 Camino Real Drive South, Kissimmee, FL 34744. Officer: Luis Hallon, President (Qualifying Individual).

Global Trade Corp. dba Cargo Bridge, 600 E. Washington Blvd., Suite 205, Los Angeles, CA 90015. Officers: Kee Bum Kim, CFO (Qualifying Individual), Eun Kyung Kimko, President.

OBI Shipping, Inc., 1442 Rancho Hills Drive, Chino Hills, CA 91709. Officer: Lisa X. Song, President (Qualifying Individual).

Ebayanbox.Com, Inc., 100 N. Brand Blvd., Suite 419, Glendale, CA 91203. Officers: Aureo Lagrimas, Jr., President (Qualifying Individual), Eric J. Tan, CEO.

C Xpress Logistics, LLC dba C Xpress Lines, 9631 Fontainebleu Blvd., Suite 414, Miami, FL 33166. Officers: Catalina E. Mejia, Manager (Qualifying Individual), Cheslavo F. Korykowski, Manager.

Non-Vessel Operating Common Carrier and Ocean Freight Forwarder Transportation Intermediary Applicants

Yen-Mex Cargo Corporation, 7215 NW. 46th Street, Miami, FL 33166. Officers: Ernesto Ackerman, President (Qualifying Individual), Gisela Ackerman, Vice President.

Water Ways Logistics USA Inc., 100 Middlesex Avenue, Suite A, Carteret, NJ 07008-3499. Officer: Leiv O. Knutsen, President (Qualifying Individual).

Fofo Import Export Retail Inc., 1065 East 21 Street, Hialeah, FL 33013. Officer: Emile Destin, President (Qualifying Individual).

ASCO Freight Management, LLC, 1755 Federal Road, Houston, TX 77015. Officers: Richard S. Higgins, President (Qualifying Individual), Christopher Lloyd, Vice President.

Ocean Freight Forwarder—Ocean Transportation Intermediary Applicants

Global International Shipping dba GIS, 415 N. Edgeworth Street, Suite 101, Greensboro, NC 27401. Officers: Ziad Najjar, President (Qualifying Individual), Huthaifa Al Adwan, Secretary.

Fletmar International Corp., 7915 SW. 21 Street, Miami, FL 33155. Officer: Maria M. Conde, DST (Qualifying Individual).

Navis Logistics Network, Inc., 5675 DTC Blvd., #280, Greenwood Village, CO 80111. Officers: Alicia M. Penny, Vice President (Qualifying Individual), Benjamin J. Blakeley, President.

Fraternity Express Shipping, 1049 Hyde Park Avenue, Hyde Park, MA 02136. Lesly Pierre, Sole Proprietor.

Worldwide Logistics of Columbus LLC, 6663 Huntley Road, Suite N, Columbus, OH 43229. Officers: Nina Mallah-Faries, Operations Manager (Qualifying Individual), Kwadwo W. Asante, Finance Officer.

Jolaco Maritime Services Inc., 6630 Harwin Drive, Suite 108, Houston, TX 77036. Officer: John Ola Coker, President (Qualifying Individual).

Dated: September 14, 2007.
Karen V. Gregory,
Assistant Secretary.

[FR Doc. E7-18452 Filed 9-18-07; 8:45 am]

BILLING CODE 6730-01-P